DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[08/30/2018 through 09/17/2018]
Firm name | Firm address | Date accepted for investigation | Product(s)
Select Fabricators, Inc | 5310 North Street, Canandaigua, NY 14424 | 9/5/2018 | The firm manufactures radio-frequency and electromagnetic interference shielded tents, pouches, and curtains.
Arlington Machine & Welding, Inc | 20621 67th Avenue NE, Arlington, WA 98223 | 9/6/2018 | The firm manufactures custom machined aluminum and steel parts.
Williams Tool, Inc | 9372 Elm Street, Chadwicks, NY 13319 | 9/10/2018 | The firm manufactures custom machined metal parts.
Plastic Resources, Inc | 495 North 1000 West, Logan, UT 84323 | 9/17/2018 | The firm manufactures plastic products, especially through plastic extrusion.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2018-20654 Filed 9-21-18; 8:45 am]

BILLING CODE 3510-WH-P